DEPARTMENT OF THE INTERIOR

Bureau of Land Management

[MT-059-00-1020-AC]

Resource Advisory Council Meeting, Dillon, MT

AGENCY: Bureau of Land Management, Interior.

ACTION: Notice of meeting.

SUMMARY: The Western Montana Resource Advisory Council will convene at 10 a.m., Wednesday, May 31, 2000, and 9:00 a.m., Thursday, June 1, 2000, at the Dillon Field Office, 1005 Selway Drive, Dillon, Montana. On Wednesday, there will be a field trip to Dyce Creek to discuss issues associated with the Dyce Creek Forest Health Project, the field trip will end at 5:00 p.m. At the Thursday meeting, issues will include the Whitetail-Pipestone Environmental Impact Statement and BLM's budget, Thursday's meeting will end at 12:00 p.m.

The meeting is open to the public and written comments can be given to the Council. Oral comments may be presented to the Council at 11:30 a.m. on Thursday. The time allotted for oral comment may be limited, depending on the number of persons wishing to be heard. Individuals who plan to attend and need further information about the meeting, or who need special assistance, such as sign language or other reasonable accommodations, should contact Jean Nelson-Dean, Resource Advisory Coordinator, at the Butte Field Office, 106 North Parkmont, P.O. Box 3388, Butte, Montana 59702-3388, telephone 406-533-7617.

FOR FURTHER INFORMATION CONTACT: Scott Powers, Dillon Field Manager, 406-683-2337, or Jean Nelson-Dean at the above address and telephone number.

Dated: April 28, 2000.
Dave Williams,
Acting Field Manager.

[FR Doc. 00-11217 Filed 5-4-00; 8:45 am]

BILLING CODE 4310-DN-P